INTERNATIONAL TRADE COMMISSION

[Investigation Nos. 701-TA-597 and 731-TA-1407 (Final)]

Cast Iron Soil Pipe From China; Revised Scheduling of the Final Phase of Countervailing Duty and Antidumping Duty Investigations

AGENCY: United States International Trade Commission.

ACTION: Notice.

DATES: January 31, 2019.

FOR FURTHER INFORMATION CONTACT: Junie Joseph (202-205-3363), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On September 10, 2018, the Commission established a schedule for the conduct of the final phase of investigations (83 FR 46519, September 13, 2018). Due to the lapse in appropriations and ensuing cessation of Commission operations, the Commission is revising its schedule.

The Commission's revised dates in the schedule are as follows: the hearing is on Tuesday, February 12, 2019 at 9:30 a.m.; requests to appear at the hearing should be filed on or before February 7, 2019; the deadline for filing posthearing briefs is February 20, 2019; final release of information is on March 14, 2019; and final party comments are due on March 18, 2019.

For further information concerning these reviews, see the Commission's notice cited above and the Commission's Rules of Practice and Procedure, part 201, subparts A through E (19 CFR part 201), and part 207, subparts A, D, E, and F (19 CFR part 207).

Authority

These reviews are being conducted under authority of title VII of the Tariff Act of 1930; this notice is published pursuant to section 207.62 of the Commission's rules.

By order of the Commission.
Issued: February 1, 2019.
Lisa Barton,
Secretary to the Commission.

[FR Doc. 2019-01233 Filed 2-5-19; 8:45 am]

BILLING CODE 7020-02-P